OFFICE OF GOVERNMENT ETHICS

Draft OGE Information Quality Guidelines

AGENCY: Office of Government Ethics (OGE).

ACTION: Notice.

SUMMARY: The Office of Government Ethics announces that its draft Information Quality Guidelines have been posted on the OGE Web site. The Office of Government Ethics invites public comments on its draft guidelines and will consider the comments received in developing its final guidelines.

DATES: Comments are due on or before August 30, 2002.

ADDRESSES: Comments should be sent to: Mary T. Donovan, Office of Administration and Information Management, Office of Government Ethics, Suite 500, 1201 New York Avenue, NW., Washington, DC 20005-3917. Comments may also be sent electronically to OGE's Internet E-mail address at usoge@oge.gov (for E-mail messages, the subject line should include the following reference—“Draft OGE Information Quality Guidelines Comment”).

FOR FURTHER INFORMATION CONTACT: Mary T. Donovan at the Office of Government Ethics; telephone: (202) 208-8000, ext. 1185; TDD 202-208-8025; FAX: 202-208-8037. A copy of the draft guidelines may be obtained, without charge, by contacting Ms. Donovan.

SUPPLEMENTARY INFORMATION: Section 515 of the Treasury & General Government Appropriations Act for FY 2001 (Public Law No. 106-554) requires each Federal agency to publish guidelines for ensuring and maximizing the quality, objectivity, utility, and integrity of the information it disseminates to the public. Agency guidelines must be based on government-wide guidelines issued by the Office of Management and Budget (OMB). In compliance with this statutory requirement and OMB instructions, OGE has posted its draft Information Quality Guidelines on the OGE Internet Web site (http://www.usoge.gov under “What's New!”). The draft guidelines describe the Agency's proposed procedures for ensuring the quality of information that it disseminates to the public and the proposed procedures by which an affected person could obtain correction of information disseminated by OGE that did not comply with the guidelines. The Office of Government Ethics invites public comments on its draft guidelines and will consider the comments received in developing its proposed final guidelines, which must be submitted to OMB for review.

Persons who cannot access the draft guidelines through the Internet may request a paper or electronic copy by contacting Ms. Donovan at the address, phone number, E-mail address, or FAX number listed above.

Approved: July 25, 2002.
James V. Parle,
Deputy Chief Information Officer, Office of Government Ethics.

[FR Doc. 02-19273 Filed 7-30-02; 8:45 am]

BILLING CODE 6345-01-P